DEPARTMENT OF THE INTERIOR

National Park Service

[N6605; NPS-WASO-NAGPRA-NPS0041198; PPWOCRADN0-PCU00RP14.R50000]

Notice of Inventory Completion: Temple University, Philadelphia, PA

AGENCY: National Park Service, Interior.

ACTION: Notice.

SUMMARY: In accordance with the Native American Graves Protection and Repatriation Act (NAGPRA), Temple University has completed an inventory of human remains and associated funerary objects and has determined that there is a cultural affiliation between the human remains and associated funerary objects and Indian Tribes or Native Hawaiian organizations in this notice.

DATES: Repatriation of the human remains and associated funerary objects in this notice may occur on or after December 17, 2025.

ADDRESSES: Send written requests for repatriation of the human remains and associated funerary objects in this notice to Dr. Leslie Reeder-Myers, Temple University, 1115 Pollett Walk, Philadelphia, PA 19122, email leslie.reeder-myers@temple.edu.

SUPPLEMENTARY INFORMATION: This notice is published as part of the National Park Service's administrative responsibilities under NAGPRA. The determinations in this notice are the sole responsibility of Temple University, and additional information on the determinations in this notice, including the results of consultation, can be found in the inventory or related records. The National Park Service is not responsible for the determinations in this notice.

Abstract of Information Available

Human remains representing, at least, five individuals have been identified. The two associated funerary objects are two projectile points. In the 1960s, the Frances Dorrance Chapter of the Society for Pennsylvania Archaeology excavated from the Schacht Site (36LU1) in Luzerne County, Pennsylvania, with assistance from Jacob Gruber, an archaeologist from Temple University, and John Witthoft of the Pennsylvania Historical Museum Commission. The human remains and funerary objects were acquired by Temple University in 1968. Based on the available information, a relationship of shared group identity can be identified reasonably between the geographical location and the culturally affiliated Indian Tribes. Luzerne County, Pennsylvania, is within the aboriginal and ancestral homeland of the culturally affiliated Indian Tribes. Temple University has no knowledge or record of the presence of any potentially hazardous substances used to treat the human remains or associated funerary objects.

Cultural Affiliation

Based on the information available and the results of consultation, cultural affiliation is reasonably identified by the geographical location of the human remains and associated funerary objects described in this notice.

Determinations

Temple University has determined that:

• The human remains described in this notice represent the physical remains of five individuals of Native American ancestry.

• The two objects described in this notice are reasonably believed to have been placed intentionally with or near individual human remains at the time of death or later as part of the death rite or ceremony.

• There is a connection between the human remains and associated funerary objects described in this notice and the Absentee-Shawnee Tribe of Indians of Oklahoma; Cayuga Nation; Delaware Nation, Oklahoma; Delaware Tribe of Indians; Eastern Shawnee Tribe of Oklahoma; Oneida Indian Nation; Oneida Nation; Onondaga Nation; Saint Regis Mohawk Tribe; Seneca Nation of Indians; Seneca-Cayuga Nation; Shawnee Tribe; Stockbridge Munsee Community, Wisconsin; Tonawanda Band of Seneca; and the Tuscarora Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects described in this notice to a requestor may occur on or after December 17, 2025. If competing requests for repatriation are received, Temple University must determine the most appropriate requestor prior to repatriation. Requests for joint repatriation of the human remains and associated funerary objects are considered a single request and not competing requests. Temple University is responsible for sending a copy of this notice to the Indian Tribes and Native Hawaiian organizations identified in this notice.

Authority: Native American Graves Protection and Repatriation Act, 25 U.S.C. 3003, and the implementing regulations, 43 CFR 10.10.

Dated: September 18, 2025.
Melanie O'Brien,
Manager, National NAGPRA Program.

[FR Doc. 2025-19969 Filed 11-14-25; 8:45 am]

BILLING CODE 4312-52-P